INTERNATIONAL TRADE COMMISSION

[Investigation No. 731-TA-1021 (Review)]

Malleable Iron Pipe Fittings From China

Determination

On the basis of the record¹ developed in the subject five-year review, the United States International Trade Commission (Commission) determines, pursuant to section 751(c) of the Tariff Act of 1930 (19 U.S.C. 1675(c)) (the Act), that revocation of the antidumping duty order on malleable iron pipe fittings from China would be likely to lead to continuation or recurrence of material injury to an industry in the United States within a reasonably foreseeable time.

¹ The record is defined in sec. 207.2(f) of the Commission's Rules of Practice and Procedure (19 CFR 207.2(f)).

Background

The Commission instituted this review on November 3, 2008 (73 FR 65401) and determined on February 6, 2009 that it would conduct an expedited review (74 FR 7703). Notice of the scheduling of the Commission's review was given by posting copies of the notice in the Office of the Secretary, U.S. International Trade Commission, Washington, DC, and by publishing the notice in the Federal Register on February 19, 2009 (74 FR 7703).

The Commission is scheduled to transmit its determination in this review to the Secretary of Commerce on April 1, 2009. The views of the Commission are contained in USITC Publication 4069 (April 2009), entitled Malleable Iron Pipe Fittings from China (Inv. No. 731-TA-1021 (Review)).

Issued: April 1, 2009.
By order of the Commission.
Marilyn R. Abbott,
Secretary to the Commission.

[FR Doc. E9-8014 Filed 4-8-09; 8:45 am]

BILLING CODE 7020-02-P